ENVIRONMENTAL PROTECTION AGENCY

[EPA-R01-OAR-2008-0107; A-1-FRL-8543-3]

Adequacy Status of the Massachusetts 8-Hour Ozone Motor Vehicle Emissions Budgets for Transportation Conformity Purposes; Massachusetts

AGENCY: Environmental Protection Agency (EPA).

ACTION: Notice of adequacy.

SUMMARY: EPA is notifying the public that EPA has found that the 2008 and 2009 motor vehicle emissions budgets in the January 31, 2008 Massachusetts 8-hour ozone State Implementation Plan revision are adequate for transportation conformity purposes. The submittal includes 2008 and 2009 motor vehicle emission budgets for the Boston-Lawrence-Worcester (Eastern Massachusetts) and Springfield (Western Massachusetts) 8-hour ozone nonattainment areas. As a result of our finding, Massachusetts must use these motor vehicle emission budgets for future conformity determinations.

DATES: This finding is effective April 2, 2008.

FOR FURTHER INFORMATION CONTACT: Donald O. Cooke, Environmental Scientist, Air Quality Planning Unit, U.S. Environmental Protection Agency, EPA New England Regional Office, One Congress Street, Suite 1100 (CAQ), Boston, MA 02114-2023, (617) 918-1668, cooke.donald@epa.gov.

SUPPLEMENTARY INFORMATION: Throughout this document, whenever “we,” “us” or “our” is used, we mean EPA.

Today's action is simply an announcement of a finding that we have already made. EPA New England sent a letter to the Massachusetts Department of Environmental Protection on March 7, 2008, stating that the 2008 and 2009 motor vehicle emissions budgets (MVEBs) in the Boston-Lawrence-Worcester (Eastern Massachusetts) and Springfield (Western Massachusetts) 8-hour ozone nonattainment areas are adequate. Massachusetts submitted the budgets on January 31, 2008, as part of the 8-hour ozone attainment demonstration and reasonable further progress plan for Eastern and Western Massachusetts. This submittal was announced on EPA's conformity website, and received no comments. (See http://www.epa.gov/otaq/stateresources/transconf/adequacy.htm. Once there, click on “What SIP submissions are currently under EPA adequacy review?”)

The 2008 and 2009 MVEBs, in tons per summer day (tpsd), for volatile organic compounds (VOC) and oxides of nitrogen (NOX) for Eastern and Western Massachusetts, are as follows:

Adequate Motor Vehicle Emissions Budgets
| Boston-Lawrence-Worcester (Eastern Massachusetts) Area: VOC (tpsd) | Boston-Lawrence-Worcester (Eastern Massachusetts) Area: NOX (tpsd) | Springfield (Western Massachusetts) Area: VOC (tpsd) | Springfield (Western Massachusetts) Area: NOX (tpsd)
Year 2008 | 68.30 | 191.30 | 11.80 | 31.30
Year 2009 | 63.50 | 174.96 | 10.73 | 27.73

Transportation conformity is required by section 176(c) of the Clean Air Act. EPA's conformity rule requires that transportation plans, programs, and projects conform to state air quality implementation plans and establishes the criteria and procedures for determining whether or not they do. Conformity to a SIP means that transportation activities will not produce new air quality violations, worsen existing violations, or delay timely attainment of the national ambient air quality standards.

The criteria by which we determine whether a SIP's motor vehicle emissions budgets are adequate for conformity purposes are outlined in 40 CFR 93.118(e)(4). We have described our process for determining the adequacy of submitted SIP budgets in our July 1, 2004, preamble starting at 69 FR 40038, and we used the information in these resources while making our adequacy determination. Please note that an adequacy review is separate from EPA's completeness review, and it also should not be used to prejudge EPA's ultimate approval of the SIP. Even if we find a budget adequate, the SIP could later be disapproved.

Authority: 42 U.S.C. 7401-7671q.

Dated: March 10, 2008.
Robert W. Varney,
Regional Administrator, EPA New England.

[FR Doc. E8-5399 Filed 3-17-08; 8:45 am]

BILLING CODE 6560-50-P